NATIONAL AERONAUTICS AND SPACE ADMINISTRATION

[Notice 13-101]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: September 19, 2013.

FOR FURTHER INFORMATION CONTACT: Robert M. Padilla, Patent Counsel, Ames Research Center, Code 202A-4, Moffett Field, CA 94035-1000; telephone (650) 604-5104; fax (650) 604-2767.

NASA Case No.: ARC-16211-1: Optimum Solar Conversion Cell Configurations;

NASA Case No.: ARC-16292-1: Nanosensor Cell Phone for Detecting Chemicals and Concentrations;

NASA Case No.: ARC-16707-1-CIP: Methods for Purifying Enzymes for Mycoremediation.

Sumara M. Thompson-King,
Deputy General Counsel.

[FR Doc. 2013-22726 Filed 9-18-13; 8:45 am]

BILLING CODE 7510-13-P